FEDERAL COMMUNICATIONS COMMISSION

Notice of Public Information Collection(s) Being Reviewed by the Federal Communications Commission, Comments Requested

April 19, 2004.

SUMMARY: The Federal Communications Commission, as part of its continuing effort to reduce paperwork burden invites the general public and other Federal agencies to take this opportunity to comment on the following information collection(s), as required by the Paperwork Reduction Act (PRA) of 1995, Public Law No. 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before June 29, 2004. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0654.

Title: Application for a Multipoint Distribution Service Authorization.

Form No.: FCC Form 304.

Type of Review: Revision of a currently approved collection.

Respondents: Business or other for-profit.

Number of Respondents: 200.

Estimated Time Per Response: 1 hour.

Frequency of Response: On occasion reporting requirement, third party disclosure requirement and recordkeeping requirement.

Total Annual Burden: 200 hours.

Total Annual Cost: $604,000.

Privacy Act Impact Assessment: Not applicable.

Needs and Uses: FCC Form 304 is used by existing Multipoint Distribution (MDS) operators to modify their stations or to add a signal booster station. It is also used by some winning bidders in the competitive bidding process to propose facilities to provide wireless cable service over any usable MDS channels within their Basic Trading Area (BTA). This collection of information also includes the burden for the technical rules involving the interference or engineering analysis and service requirements under Sections 21.902, 21.913, and 21.938. These analyses will not be submitted with the application but will be retained by the operator and must be made available to the Commission upon request. The data is used by FCC staff to ensure that the applicant is legally, technically and otherwise qualified to become a Commission licensee. MDS/ITFS applicants/licensees will need this information to perform the necessary analyses of the potential for harmful interference to their facility.

The Commission is now revising this form to request additional information to complete the Universal Licensing Service (ULS) data elements since MDS/ITFS has been implemented into ULS. Additional information such as the licensee's email address, fax number, type of applicant, contact's email address and fax number will be added to this form. The Commission is also clarifying data elements, instructions and correction of mailing addresses and Web sites. The increase in the annual cost burden is due to hourly wage and fees within the past three years.

OMB Control No.: 3060-0664.

Title: Certification of Completion of Construction for Multipoint Distribution Service (MDS) Station.

Form No.: FCC Form 304A.

Type of Review: Revision of a currently approved collection.

Respondents: Business or other for-profit.

Number of Respondents: 200.

Estimated Time Per Response: .50 hours.

Frequency of Response: On occasion reporting requirement.

Total Annual Burden: 100 hours.

Total Annual Cost: Not applicable.

Privacy Act Impact Assessment: Not applicable.

Needs and Uses: FCC Form 304A is used to certify that the facilities authorized in the FCC Form 304 have been completed and that the station is now operational and ready to provide service to the public. Each licensee must specify as a condition that upon the completion of construction, the licensee file with the Commission a FCC Form 304A, certifying that the facilities as authorized have been completed, the station is operational, and ready to provide service to the public. The conditional license shall be automatically forfeited upon the expiration of the construction period specified in the license within five days after the date an FCC Form 304A has been filed with the Commission.

The Commission is now revising FCC Form 304A to request additional information to complete the Universal Licensing System (ULS) data elements since MDS/ITFS has been implemented into ULS. Additional information such as the licensee's email address, fax number, type of applicant, contact's email address and fax number will be added to this collection. The Commission is also clarifying data elements, instructions, and corrections of mailing addresses and Web sites. The decrease in burden hours and costs are due to the decrease in the number of applications estimated to be filed with the Commission.

OMB Control No.: 3060-0774.

Title: Federal-State Joint Board on Universal Service, CC Docket No. 96-45, Sections 36.611 and 36.612, and Part 54.

Form No.: Not applicable.

Type of Review: Extension of a currently approved collection.

Respondents: Business or other for-profit, not for-profit institutions, and state, local or tribal government.

Number of Respondents: 5,554,651.

Estimated Time Per Response: 20 minutes average response time.

Frequency of Response: On occasion, annual, quarterly, and every five year reporting requirements, recordkeeping requirement and third party disclosure requirement.

Total Annual Burden: 1,852,590 hours.

Total Annual Cost: Not applicable.

Privacy Act Impact Assessment: Not applicable.

Needs and Uses: Congress directed the Commission to implement a new set of universal service support mechanisms that are explicit and sufficient to advance the universal service principles enumerated in 47 U.S.C. 254 and other such principles as the Commission believes are necessary and appropriate for the protection of the public interest, convenience and necessity, and are consistent with the Act. Part 54 promulgates the rules and requirements to preserve and advance universal service. The Commission will be submitting this information collection to the OMB as an extension (no change in requirements) in order to obtain the full three year clearance.

Federal Communications Commission.
Marlene H. Dortch,
Secretary.

[FR Doc. 04-9880 Filed 4-29-04; 8:45 am]

BILLING CODE 6712-01-P